FEDERAL MARITIME COMMISSION

Notice of Request for Additional Information

The Commission gives notice that it has formally requested that the parties to the below listed agreement provide additional information pursuant to 46 U.S.C. 40304(d). This action prevents the agreement amendments from becoming effective as originally scheduled. Interested parties may file comments within fifteen (15) days after publication of this notice in the Federal Register.

Agreement No.: 201227-002, -003.

Title: Pacific Ports Operational Improvements Agreement (PPOIA).

Parties: Maersk Line A/S; APL Co. Pte Ltd.; American President Lines, Ltd.; CMA CGM S.A. (“CMA CGM”); Cosco Container Lines Company Limited; Evergreen Line Joint Service Agreement; Hamburg-Sudamerikanische; Aliança Navegação E Logística Ltda.; Hanjin Shipping Co., Ltd.; Hapag-Lloyd AG; Hapag-Loyd USA; Companhia Libra De Navegacao; Compania Libra De Navegacion Uruguay S.A.; Mitsui O.S.K. Lines, Ltd.; Nippon Yusen Kaisha Line; Kawasaki Kisen Kaisha, Ltd.; Hyundai Merchant Marine Co., Ltd.; Zim Integrated Shipping Services; China Shipping Container Lines Co., Ltd.; China Shipping Container Lines (Hong Kong) Co., Ltd.; MSC Mediterranean Shipping Company SA; Matson Navigation Company, Inc.

By Order of the Federal Maritime Commission.
Dated: July 13, 2015.
Karen V. Gregory,
Secretary.

[FR Doc. 2015-17521 Filed 7-16-15; 8:45 am]

BILLING CODE 6730-01-P